DEPARTMENT OF DEFENSE

Department of the Army

Publication of Revision and Consolidation of Military Freight Traffic Rules Publications (MFTRP) 1C-R (Motor), 10 (Rail), 30 (Barge), 6A (Pipeline), 4A (Tank Truck), Military Standard Tender Instruction Publication (MSTIP) 364D, SpotBid Business Rules, and SDDC Military Class Rate Publication No. 100A to a Consolidation of Procurement Requirements for the Purchase of Commercial Transportation Services Into the Military Freight Traffic Unified Rules Publication (MFTURP) No. 1

AGENCY: Department of the Army, DoD.

ACTION: Notice; correction.

SUMMARY: The notice published in the Federal Register on June 9, 2009 (74 FR 27294), indicated a July 9, 2009 effective date. The effective date for this publication will not be July 9, 2009. The effective date will be determined and published at a later date. All publications listed above will remain in effect until further notice.

FOR FURTHER INFORMATION CONTACT: Ms. Dora J. Elias, (757) 878-5379.

SUPPLEMENTARY INFORMATION: None.

Brenda S. Bowen,
Army Federal Register Liaison Officer.

[FR Doc. E9-16345 Filed 7-9-09; 8:45 am]

BILLING CODE 3710-08-P